DEPARTMENT OF ENERGY

Federal Energy Regulatory Commission

Combined Notice of Filings #2

Take notice that the Commission received the following electric rate filings:

Docket Numbers: ER19-1950-001.

Applicants: California Independent System Operator Corporation.

Description: Compliance filing: 2020-04-21 Filing to Comply with February 20, 2020 Order in Docket ER19-1950 to be effective 2/20/2020.

Filed Date: 4/21/20.

Accession Number: 20200421-5116.

Comments Due: 5 p.m. ET 5/12/20.

Docket Numbers: ER20-1623-000.

Applicants: Silver State Solar Power North, LLC.

Description: § 205(d) Rate Filing: Market-Based Rate Tariff Revisions Silver State (Docket ER12-1316-005) to be effective 4/22/2020.

Filed Date: 4/21/20.

Accession Number: 20200421-5108.

Comments Due: 5 p.m. ET 5/12/20.

Docket Numbers: ER20-1624-000.

Applicants: Crowned Ridge Interconnection, LLC.

Description: § 205(d) Rate Filing: Crowned Ridge Interconnection, LLC, CR1 & CR2 Shared Facilities Agreement to be effective 7/1/2020.

Filed Date: 4/21/20.

Accession Number: 20200421-5110.

Comments Due: 5 p.m. ET 5/12/20.

Docket Numbers: ER20-1625-000.

Applicants: Dynegy Oakland, LLC.

Description: § 205(d) Rate Filing: Request for Authorization of Payment Pursuant to Section 7.5 of RMR Agreement to be effective 6/20/2020.

Filed Date: 4/21/20.

Accession Number: 20200421-5152.

Comments Due: 5 p.m. ET 5/12/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2020.
Nathaniel J. Davis, Sr.,
Deputy Secretary.

[FR Doc. 2020-08867 Filed 4-24-20; 8:45 am]

BILLING CODE 6717-01-P